DEPARTMENT OF TRANSPORTATION

Federal Aviation Administration

Notice of Intent To Request Renewal From the Office of Management and Budget (OMB) of Three Current Public Collections of Information

AGENCY: Federal Aviation Administration (FAA), DOT.

ACTION: Notice.

SUMMARY: In compliance with the Paperwork Reduction Act (44 U.S.C. 3501 et seq.), the FAA invites public comment on 3 current public information collections which will be submitted to OMB for renewal.

DATES: Comments must be submitted on or before September 17, 2001.

ADDRESSES: Comments may be mailed or delivered to FAA, at the following address: Ms. Judy Street, Room 612, Federal Aviation Administration, Standards and Information Division, APF-100, 800 Independence Avenue, S.W., Washington, DC 20591.

FOR FURTHER INFORMATION CONTACT: Ms. Judy Street, at the above address or on (202) 267-9895.

SUPPLEMENTARY INFORMATION: The FAA solicits comments on any of the current collections of information in order to evaluate the necessity of the collection, the accuracy of the agency's estimate of burden, the quality, utility, and clarity of the information to be collected, and possible ways to minimize the burden of collection. Also note, that an agency may not conduct or sponsor, and a person is not required to respond to, a collection of information unless it displays a current valid OMB control number.

Following are short synopses of the 3 information collection activities which will be submitted to OMB for requests for renewal:

1. 2120-0034, Medical Standards and Certification. This information for the medical certification of airmen is collected under the authority of 49 U.S.C. 440113, 44701, 44501, 44702, 44709, 45303, and 80111. The airmen medical certification program is implemented by Title 14, CFR parts 61 and 67. Using four forms to collect information the FAA determines if applicants are medically qualified to perform the duties associated with the class of airman medical certificate sought. The applicants are persons desiring medical certificates. The estimated total burden hours are 900,000 hours annually.

2. 2120-0593, Commuter Operations and General Certification and Operations Requirements. This request for clearance reflects requirements necessary under 14 CFR parts 135, 121 and 125 to comply with part 119. The FAA will use the information it collects and reviews to insure compliance and adherence to regulations and if necessary take enforcement action on violator of the regulations. The current estimated burden is 8,803 hours annually.

3. 2120-0656, Airport Security, part 107. 14 CFR part 107, Airport Security, implements the provisions of the Pubic Law 103-272 and the Aviation Security Improvement Act that relate to security of persons and property at airports operating in commercial air transportation. Airport security programs are needed to ensure protection of persons and property in air transportation against acts of criminal violence to ensure passenger screening procedures are effective and that information is available to comply with Congressional reporting requirements. The affected public is an estimated 465 Regulated Airport Operators. The current estimated annual burden is 512,426 hours annually.

Issued in Washington, DC on July 12, 2001.
Steve Hopkins,
Manager, Standards and Information Division, APF-100.

[FR Doc. 01-17962 Filed 7-17-01; 8:45 am]

BILLING CODE 4910-13-M